DEPARTMENT OF THE INTERIOR

Office of the Secretary

43 CFR Parts 47 and 48

RIN 1090-AA98

Land Exchange Procedures and Procedures To Amend the Hawaiian Homes Commission Act, 1920

AGENCY: Office of the Secretary, Interior.

ACTION: Proposed rule; extension of comment period.

SUMMARY: The Department of the Interior (Department) is extending the comment period for the proposed rule governing land exchanges involving Hawaiian home lands and amendments to the Hawaiian Homes Commission Act proposed by the State of Hawaii until August 12, 2015. The proposed rule would clarify under current Federal law what Departmental procedures would apply.

DATES: The comment period for the proposed rule published on May 12, 2015 (80 FR 27134) is extended. Comments must be received by August 12, 2015.

ADDRESSES: You may submit comments on the rulemaking by either of the methods listed below. Please use Regulation Identifier Number 1090-AA98 in your message.

1. Federal eRulemaking Portal: http://www.regulations.gov. Follow the instructions on the Web site for submitting comments.

2. U.S. mail, courier, or hand delivery: Office of Native Hawaiian Relations, Department of the Interior, 1849 C Street NW., Washington, DC 20240.

FOR FURTHER INFORMATION CONTACT: Ka`i`ini Kimo Kaloi, Director, Office of Native Hawaiian Relations, telephone (202) 208-7462.

SUPPLEMENTARY INFORMATION: On May 12, 2015, we published a proposed rule to clarify how under current law the Department of the Interior shall review proposed land exchanges involving Hawaiian home lands and amendments to the Hawaiian Homes Commission Act proposed by the State of Hawaii. See 80 FR 27134. Today we are publishing an extension of the comment period, establishing a new comment deadline of August 12, 2015, to allow additional time for the State of Hawaii, Native Hawaiian Community, beneficiaries, and public comment. We will accept all comments received between May 12, 2015, and August 12, 2015. The proposed rule, frequently asked questions, and other information are online at: http://www.doi.gov/ohr.

Dated: July 8, 2015.
Kristen J. Sarri,
Principal Deputy Assistant Secretary for Policy, Management and Budget.

[FR Doc. 2015-17225 Filed 7-10-15; 8:45 am]

BILLING CODE 4310-93-P